DEPARTMENT OF EDUCATION

CFDA No. 84.206R

Office of Educational Research and Improvement; Jacob K. Javits Gifted and Talented Education Program— National Research and Development Center; Notice Inviting Applications for One New Award for Fiscal Year (FY) 2000.

Purpose of Program: To support a national research and development center to conduct research on methods and techniques for identifying and teaching gifted and talented students and for using gifted and talented programs and methods to serve all students; and to conduct program evaluations, surveys, and the collection, analysis, and development of information on gifted and talented education. Emphasis is given to the identification and services for students not traditionally included in gifted and talented education, (including individuals of limited-English proficiency, economically disadvantaged individuals, and individuals with disabilities).

For fiscal year (FY) 2000 the competition for a new award focuses on projects designed to meet the priority we describe in the notice of final priority published elsewhere in this issue of the Federal Register.

Eligible Applicants: Institutions of higher education, State educational agencies, or a combination or consortium of these entities.

Applications Available: June 16, 2000.

Deadline for Transmittal of Applications: August 1, 2000.

Estimated Available Funds: This center will be awarded as a cooperative agreement. In fiscal year 2000, $1.75 million is available for the first year of funding for a national research and development center to study the education of gifted and talented students. The funding levels for years 2 through 5 are estimated at $1.75 million for each fiscal year. Future funding will depend upon the availability of funds and needs as reflected in the approved application.

Maximum Award: We will reject any application that proposes a budget exceeding $1.75 million for a single budget period of 12 months.

Estimated Number of Awards: One.

Note: The Department is not bound by any estimates in this notice.

Project Period: 60 months.

Page limit: the application must include: title page form, abstract, research narrative, management plan, biographical sketches for principal investigators and other key personnel, budget summary form with budget narrative, and statement of equitable access (GEPA 427). The abstract is limited to one page, the research narrative is limited to 200 pages, the management plan is limited to 10 pages, and biographical sketches are limited to 3 pages each for the principal investigator and other key personnel. Use 8½ x 11 inch paper with printing on only one side. Appendix materials will not be read and should not be submitted. Pages in excess of these limitations will be removed unread. We strongly encourage applicants to use double-spacing, a 12-point font, and 1-inch margins. Reviewers are able to conduct the highest quality review when applications are concise and easy to read, with pages consecutively numbered.

Applicable Regulations: (a) The Education Department General Administrative Regulations (EDGAR) in 34 CFR parts 74, 75, 77, 78, 80, 81, 82, 84, 86 (Part 86 applies only to Institutions of Higher Education), 97, 98, and 99; and (b) 34 CFR part 700.

Priority: This competition focuses on projects designed to meet the priority in the notice of final priority for this program, published elsewhere in this issue of the Federal Register.

Under 34 CFR 75.105(c)(3) we consider only applications that meet the absolute priority.

For Applications or Information Contact: Beverly E. Coleman, U.S. Department of Education, 555 New Jersey Avenue, NW, room 611A, Washington, DC 20208-5521. Telephone: (202) 219-2280; E-mail: beverly_coleman@ed.gov. If you use a telecommunications device for the deaf (TDD) you may call the Federal Information Relay Service (FIRS) at 1-800-877-8339.

Individuals with disabilities may obtain this document in an alternative format (e.g., Braille, large print, audiotape, or computer diskette) on request to the program contact person listed under For Applications or Information Contact.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 8034(c).

Dated: June 8, 2000.
C. Kent McGuire,
Assistant Secretary for Educational Research and Improvement.

[FR Doc. 00-14890 Filed 6-12-00; 8:45 am]

BILLING CODE 4000-01-P